SECURITIES AND EXCHANGE COMMISSION

17 CFR Part 232

[Release Nos. 33-9741C; 34-74578C; 39-2501C; File No. S7-11-13]

RIN 3235-AL39

Amendments for Small and Additional Issues Exemptions Under the Securities Act (Regulation A); Correction

AGENCY: Securities and Exchange Commission.

ACTION: Correcting amendments.

SUMMARY: This document contains corrections to the final regulations (SEC Rel. No. 33-9741), which were published in the Federal Register of Monday, April 20, 2015 (80 FR 21806). The regulations related to Amendments for Small and Additional Issues Exemptions under the Securities Act (Regulation A).

DATES: This correction is effective July 1, 2015.

FOR FURTHER INFORMATION CONTACT: Linda Cullen, Office of the Secretary at (202) 551-5400.

SUPPLEMENTARY INFORMATION:

Background

The final regulations that are the subject of these corrections were revisions to Item 101(a) of Regulation S-T (§ 232.101(a) of the chapter) on the effective date of the Amendments for Small and Additional Issues Exemptions under the Securities Act (Regulation A) to reflect the mandatory electronic filing of all issuer initial filing and ongoing reporting requirements under Regulation A (§§ 230.251-230.262 of the chapter).

Need for Correction

As published, the final regulations contain errors which need to be corrected.

List of Subjects in 17 CFR Part 232

Reporting and recordkeeping requirements, Securities.

Accordingly, 17 CFR part 232 is corrected by making the following correcting amendments:

1. The authority citation for part 232 continues to read in part as follows:

Authority: 15 U.S.C. 77c, 77f, 77g, 77h, 77j, 77s(a), 77z-3, 77sss(a), 78c(b), 78l, 78m, 78n, 78o(d), 78w(a), 78ll, 80a-6(c), 80a-8, 80a-29, 80a-30, 80a-37, 7201 et seq.; and 18 U.S.C. 1350, unless otherwise noted.

* * * * *

2. Section 232.101 is amended by:

a. Revising paragraphs (a)(1)(xvi) and (xvii); and

b. Adding paragraph (a)(1)(xviii).

The revisions and addition read as follows:

§ 232.101 Mandated electronic submissions and exceptions.

(a) * * *

(1) * * *

(xvi) Form ABS-15G (as defined in § 249.1400 of this chapter);

(xvii) Documents filed with the Commission pursuant to section 13(n) of the Exchange Act (15 U.S.C. 78m(n)) and the rules and regulations thereunder, including Form SDR (17 CFR 249.1500) and reports filed pursuant to Rules 13n-11(d) and (f) (17 CFR 240.13n-11(d) and (f)) under the Exchange Act; and

(xviii) Filings made pursuant to Regulation A (§§ 230.251 through 230.262 of this chapter).

* * * * *

Dated: June 25, 2015.
Brent J. Fields,
Secretary.

[FR Doc. 2015-16045 Filed 6-30-15; 8:45 am]

BILLING CODE 8011-01-P